DEPARTMENT OF HOUSING AND URBAN DEVELOPMENT

[Docket No. FR-7077-N-09]

Privacy Act of 1974; System of Records

AGENCY: Office of Multifamily Housing, HUD.

ACTION: Notice of a rescindment of a system of records.

SUMMARY: Department of the Housing and Urban Development (HUD) is issuing a public notice of its intent to rescind Development Application Processing System (DAP). During a routine review of Multifamily Housing system of records notices, it was determined that this system of records is no longer necessary because personally identifiable information is not used in the retrieval process of the DAP system.

DATES: July 11, 2023. This proposed action will be effective immediately upon publication.

ADDRESSES: You may submit comments, identified by the docket number by one of the following methods:

Federal e-Rulemaking Portal: http://www.regulations.gov. Follow the instructions provided on that site to submit comments electronically.

Fax: 202-619-8365.

Email: www.privacy@hud.gov.

Mail: Attention: Privacy Office; LaDonne White, Chief Privacy Officer; The Executive Secretariat; 451 Seventh Street SW, Room 10139; Washington, DC 20410-0001.

Instructions: All submissions received must include the agency name and docket number for this rulemaking. All comments received will be posted without change to http://www.regulations.gov. including any personal information provided.

Docket: For access to the docket to read background documents or comments received go to http://www.regulations.gov.

FOR FURTHER INFORMATION CONTACT: LaDonne White; 451 Seventh Street SW, Room 10139; Washington, DC 20410-0001; telephone number 202-708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: The Development Application Processing System (DAP) is being provided for rescindment from the HUD Office of Multifamily Housing (MFH) system of records inventory. The SORN was identified for rescindment for the following reason: the records are not Privacy Act records. Records in the system are secured electronically or on paper in a secure facility in a locked drawer behind a locked door. Electronic records may be retrieved by the project number, project name, or organization. All existing records were disabled or hidden that exposed SSN used for Tax ID as there are no business justifications to retrieve data from the system.

SYSTEM NAME AND NUMBER:

Development Application Processing System, HUD/MFH-08.

HISTORY:

The previously published notice in the Federal Register [Docket Number FR-5130-N-6], on August 1, 2007, at 72 FR 42101.

LaDonne White,
Chief Privacy Officer, Office of Administration.

[FR Doc. 2023-14518 Filed 7-10-23; 8:45 am]

BILLING CODE 4210-67-P